FEDERAL HOUSING FINANCE BOARD

[No. 2004-N-11]

Proposed Collection; Comment Request

AGENCY: Federal Housing Finance Board.

ACTION: Notice.

SUMMARY: In accordance with the requirements of the Paperwork Reduction Act of 1995, the Federal Housing Finance Board (Finance Board) is seeking public comments concerning a three-year extension by the Office of Management and Budget (OMB) of the information collection entitled “Federal Home Loan Bank Directors.”

DATES: Interested persons may submit comments on or before September 28, 2004.

COMMENTS: Submit comments by any of the following methods:

E-mail: comments@fhfb.gov.

Fax: 202/408-2580.

Mail/Hand Delivery: Federal Housing Finance Board, 1777 F Street, NW., Washington, DC 20006, Attention: Public Comments.

Federal eRulemaking Portal: http://www.regulations.gov. Follow the instructions for submitting comments. If you submit your comment to the Federal eRulemaking Portal, please also send it by e-mail to the Finance Board at comments@fhfb.gov to ensure timely receipt by the agency.

Include the following information in the subject line of your submission: Federal Housing Finance Board. Proposed Collection; Comment Request: Federal Home Loan Bank Directors. 2004-N-11.

We will post all public comments we receive on this notice without change, including any personal information you provide, such as your name and address, on the Finance Board Web site at http://www.fhfb.gov/pressroom/pressroom_regs.htm.

FOR FURTHER INFORMATION CONTACT: Patricia L. Sweeney, Program Analyst, Office of Supervision by telephone at 202/408-2872, by electronic mail at sweeneyp@fhfb.gov, or by regular mail to the Federal Housing Finance Board, 1777 F Street, NW., Washington, DC 20006.

SUPPLEMENTARY INFORMATION:

A. Need For and Use of Information Collection

Section 7 of the Federal Home Loan Bank Act (Bank Act) and the Finance Board's implementing regulation establish the eligibility requirements and the procedures for electing and appointing Federal Home Loan Bank (FHLBank) directors. See 12 U.S.C. 1427; 12 CFR part 915. Under part 915, the FHLBanks determine the eligibility of elective directors and director nominees and run the director election process. The Finance Board determines the eligibility of and selects all appointive FHLBank directors. To determine eligibility, the FHLBanks use the Elective Director Eligibility Certification Form and the Finance Board uses the Appointive Director Eligibility Certification Form. The Finance Board regulation also requires incumbent directors to certify annually that they continue to meet the director eligibility requirements.

The Finance Board uses the information contained in the Appointive Director Eligibility Certification Form and part 915 to determine whether prospective and incumbent appointive directors satisfy the statutory and regulatory eligibility requirements. Only individuals meeting these requirements may serve as appointive FHLBank directors. See 12 U.S.C. 1427(a) and (f)(2). The FHLBanks, and where appropriate, the Finance Board, use the information in the Elective Director Eligibility Certification Form and part 915 to determine whether elective directors and director nominees satisfy the statutory and regulatory eligibility requirements. Only individuals meeting these requirements may serve as elective FHLBank directors. See 12 U.S.C. 1427(a), (b) and (f)(3).

The likely respondents include FHLBanks, FHLBank members, and prospective and incumbent FHLBank directors.

The OMB number for the information collection is 3069-0002. The OMB clearance for the information collection expires on October 31, 2004.

B. Burden Estimate

The Finance Board estimates that total number of respondents is 4,976, which includes 12 FHLBanks, 4600 FHLBank members, and 364 prospective and incumbent FHLBank directors. As explained below, the Finance Board estimates that the total annual hour burden for all respondents is 5,302 hours.

The Finance Board estimates the total annual average hour burden for each FHLBank to run the election of directors and process director nominee/director forms is 235 hours. The estimate for the average hour burden for all FHLBanks is 2,820 hours (12 FHLBanks × 235 hours).

The Finance Board estimates the total annual average hour burden for an FHLBank member to participate in the director election process is 30 minutes. The estimate for the average hour burden for all FHLBank members that participate in the director election process is 2,300 hours (4,600 FHLBank members × 0.5 hours).

The Finance Board estimates the total annual average number of prospective and incumbent appointive directors at 84, with 1 response per individual. The estimate for the average hour burden per individual is 30 minutes. The estimate for the average hour burden for all prospective and incumbent appointive directors is 42 hours (84 prospective and incumbent appointive directors × 1 response per individual × 0.5 hours). The Finance Board estimates the total annual average number of prospective and incumbent elective directors at 280, with 1 response per individual. The estimate for the average hour burden per individual is 30 minutes. The estimate for the annual hour burden for all prospective and incumbent elective directors is 140 hours (280 prospective and incumbent elective directors × 1 response per individual × 0.5 hours). The estimate for the average hour burden for all prospective and incumbent FHLBank directors is 182 hours (84 prospective and incumbent appointive directors + 280 prospective and incumbent elective directors) × 1 response per individual × 0.5 hours).

C. Comment Request

The Finance Board requests written comments on the following: (1) Whether the collection of information is necessary for the proper performance of Finance Board functions, including whether the information has practical utility; (2) the accuracy of the Finance Board's estimates of the burdens of the collection of information; (3) ways to enhance the quality, utility, and clarity of the information collected; and (4) ways to minimize the burden of the collection of information on respondents, including through the use of automated collection techniques or other forms of information technology.

Dated: July 26, 2004.
By the Federal Housing Finance Board.
Donald Demitros,
Chief Information Officer.

[FR Doc. 04-17331 Filed 7-29-04; 8:45 am]

BILLING CODE 6725-01-P